DEPARTMENT OF TRANSPORTATION

Federal Aviation Administration

14 CFR Part 39

[Docket No. 2003-NE-32-AD; Amendment 39-13285; AD 2003-17-10]

RIN 2120-AA64

Airworthiness Directives; McCauley Propeller Systems, Inc. Propeller Hub Models B5JFR36C1101, C5JFR36C1102, B5JFR36C1103, and C5JFR36C1104

Correction

In rule document 03-21519 beginning on page 50462 in the issue of Thursday, August 21, 2003, make the following correction:

§39.13 [Corrected]

On page 50464, in §39.13(o), in the table the heading should read Table 3—Incorporation by Reference.

[FR Doc. C3-21519 Filed 9-5-03; 8:45 am]

BILLING CODE 1505-01-D

DEPARTMENT OF THE TREASURY

Internal Revenue Service

26 CFR Part 1

[TD 9085]

RIN 1545-AY12

Arbitrage and Private Activity Restrictions Applicable to Tax-exempt Bonds Issued by State and Local Governments; Investment-type Property (prepayment); Private Loan (prepayment)

Correction

In rule document 03-19644 beginning on page 45772 in the issue of Monday, August 4, 2003, make the following correction:

§ 1.141-15 [Corrected]

On page 45775, in the second column, in § 1.141-15, add the following directly below the section heading:

* * * * *

[FR Doc. C3-19644 Filed 9-5-03; 8:45 am]

BILLING CODE 1505-01-D